NATIONAL SCIENCE FOUNDATION

Waste Regulation

AGENCY: National Science Foundation.

ACTION: Notice of permit modification request received under the Antarctic Conservation Act of 1978, Public Law 95-541.

SUMMARY: The National Science Foundation (NSF) is required to publish notice of requests to modify permits issued to conduct activities regulated under the Antarctic Conservation Act of 1978. This is the required notice.

DATES: Interested parties are invited to submit written data, comments, or views with respect to this modification request on or before March 20, 2000.

ADDRESSES: Comments should be addressed to Permit office, Room 755, Office of Polar Programs, National Science Foundation, 4201 Wilson Boulevard, Arlington, Virginia, 22230.

FOR FURTHER INFORMATION CONTACT: Joyce Jatko, Environmental Officer, at the above address or (703) 306-1032.

SUPPLEMENTARY INFORMATION: Raytheon Polar Services Company, a business unit of Raytheon Technical Services Company, is in the phase-in period for assuming responsibility for the contract to provide operations support to the United States Antarctic Program. As part of that support, Raytheon personnel will be assuming responsibility for waste management activities. Those activities are currently regulated under the terms of a permit held by the incumbent contractor, Antarctic Support Associates, Permit Number 2000WM-01. Raytheon Polar Services Company has requested that the permit be transferred to them. The transfer would be effective on or about 1 April 2000, the date the new contract is anticipated to take effect. The transfer would modify the permit to change the permit holder from Antarctic Support Associates to Raytheon Polar Services Company, 16800 E. CentreTech Parkway, Aurora, CO 80011-9646. All other permit conditions would remain the same.

Joyce A. Jatko,
Acting Permit Officer.

[FR Doc. 00-3704 Filed 2-16-00; 8:45 am]

BILLING CODE 7555-01-M